DEPARTMENT OF AGRICULTURE

Farm Service Agency

[Docket ID: FSA-2025-0268]

Information Collection Request; Organic Certification Cost Share Program

AGENCY: Farm Service Agency, USDA.

ACTION: Notice; request for comments.

SUMMARY: In accordance with the Paperwork Reduction Act of 1995, the Farm Service Agency (FSA) is requesting comments from all interested individuals and organizations on a revision of a currently approved information collection request associated with the Organic Certification Cost Share Program (OCCSP).

DATES: We will consider comments that we receive by March 2, 2026.

ADDRESSES: We invite you to submit comments on this notice. You may submit comments by this method: Federal eRulemaking Portal: Go to: www.regulations.gov and search for Docket ID FSA-2025-0268. Follow the online instructions for submitting comments.

You may also send comments to the Desk Officer for Agriculture, Office of Information and Regulatory Affairs, Office of Management and Budget, Washington, DC 20503. Copies of the information collection may be requested by contacting Jenae Orso.

FOR FURTHER INFORMATION CONTACT: For specific questions related to collection activity, contact Jenae Orso; (229) 850-0194; email: jenae.prescott@usda.gov. Individuals who require alternative means of communication for program information should contact the USDA Target Center at (202) 720-2600 (voice) or dial 711 for Telecommunications Relay Service (both voice and text telephone users can initiate this call from any telephone).

SUPPLEMENTARY INFORMATION:

Background

OCCSP provides cost share assistance to producers and handlers of agricultural products for the costs of obtaining or maintaining organic certification under the National Organic Program (NOP). Section 10606 of H.R. 1 (Pub. L. 119-21, also referred to as the “One Big Beautiful Bill Act”) authorized $10,000,000 in National OCCSP funding for fiscal years 2025 through 2031 (7 U.S.C. 6523(d)). An additional $1,000,000 in Agricultural Management Assistance funding is available for each fiscal year (7 U.S.C. 1524(b)). This notice announces that FSA is requesting comments from all interested individuals and organizations on a revision of a currently approved information collection request associated with OCCSP. FSA will announce the OCCSP application periods for certified organic operations and State Agencies in a future final rule.

Description of Information Collection Request

Title: Organic Certification Cost Share Program.

OMB Control Number: 0560-0289.

Type of Request: Revision of a currently approved information collection.

OMB Expiration Date: March 31, 2026.

Abstract: FSA is requesting comments from all interested individuals and organizations on a revision of a currently approved information collection request associated with OCCSP. OCCSP provides cost share assistance to producers and handlers of agricultural products for the costs of obtaining or maintaining organic certification under the National Organic Program (NOP).

To receive cost share assistance, producers and handlers submit an application form and itemized invoices showing expenses paid to a third-party certifying agency for certification services during the fiscal year for which the application is submitted. Producers and handlers who apply through State Agencies must also submit a W-9, Request for Taxpayer Identification Number and Certification. Producers and handlers who apply through FSA county office must submit AD-2047, Customer Data Worksheet, and SF-3881, ACH Vendor/Miscellaneous Payment Enrollment Form, if not already on file with FSA.

FSA also accepts applications from State Agencies to establish grant agreements to administer OCCSP for producers and handlers in their States. Participating State Agencies will submit SF-424, Application for Federal Assistance; a signed Notice of Grant and Agreement Award; SF-425, Federal Financial Report; an annual narrative report, and an annual spreadsheet of organic operations that were reimbursed for eligible expenses. State Agencies will also submit at least one SF-270, Request for Advance of Reimbursement; for the purpose of calculating the burden for this collection, FSA has used an estimate of 2 responses for SF-270, which is the average number submitted by respondents annually in recent years.

FSA is requesting a revision of the approved information collection. The revisions are due to adjustments to the estimated number of respondents based on program participation in recent years, changes to the estimated hours per response for some responses to accurately reflect the time necessary to complete them, updates to reflect the forms currently used for FSA programs to administer grant agreements and collect respondent information, and changes to accurately account for exempt burden hours. For the following estimated total annual burden on respondents, the formula used to calculate the total burden hours is the estimated average time per response hours multiplied by the estimated total annual responses.

Estimate of Respondent Burden: Public reporting burden for this collection of information is estimated to average 0.6482 hours per response.

Respondents: Individuals, Businesses, Farms, and State Governments.

Estimated Annual Number of Respondents: 12,030.

Estimated Number of Reponses per Respondent: 3.7232.

Estimated Total Annual Responses: 44,790.

Estimated Average Time per Response: 0.6482 hours.

Estimated Total Annual Burden on Respondents: 29,031 hours.

We are requesting comments on all aspects of this information collection to help us:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

Kimberly Graham,
Associate Administrator, Farm Service Agency.

[FR Doc. 2025-24098 Filed 12-30-25; 8:45 am]

BILLING CODE 3411-E2-P